CONSUMER PRODUCT SAFETY COMMISSION

Public Meeting Concerning Proposed Standard for the Flammability (Open Flame) of Mattresses and Mattress/Foundation Sets

AGENCY: Consumer Product Safety Commission.

ACTION: Notice of public meeting.

SUMMARY: The Consumer Product Safety Commission (“CPSC” or “Commission”) will conduct a public meeting on March 3, 2005 to receive oral comments concerning the Commission's notice of proposed rulemaking (“NPR”) proposing a standard to address open flame ignition of mattresses. 70 FR 2470. The Commission invites members of the public to make oral presentations concerning information or comments related to the proposed standard. The Commission will consider these presentations as it proceeds with the rulemaking and the possible issuance of a final rule.

DATES: The meeting will begin at 10 a.m. on March 3, 2005. Requests to make oral presentations, and 10 copies of the text of the presentation, must be received by the CPSC Office of the Secretary no later than February 24, 2005. Persons making presentations at the meeting should provide an additional 25 copies for dissemination on the date of the meeting.

The Commission reserves the right to limit the number of persons who make presentations and the duration of their presentations. To prevent duplicative presentations, groups will be directed to designate a spokesperson.

As stated in the NPR, the period for submission of written comments on the mattress NPR is open until March 29, 2005. Written comments may be sent by e-mail, fax or mail to the addresses listed below.

ADDRESSES: The meeting will be in room 420 of the Bethesda Towers Building, 4330 East-West Highway, Bethesda, MD. Requests to make oral presentations, and texts of oral presentations should be captioned “Mattress NPR Hearing” and submitted by e-mail to cpsc-os@cpsc.gov. or by facsimile to (301) 504-0127. Requests and texts of oral presentations may also be mailed to the Office of the Secretary, Consumer Product Safety Commission, Washington, DC 20207, or delivered to that office, room 502, 4330 East-West Highway, Bethesda, Maryland 20814.

FOR FURTHER INFORMATION CONTACT: For information about the purpose or subject matter of this meeting contact Margaret Neily, Directorate for Engineering Sciences, U.S. Consumer Product Safety Commission, Washington, DC 20207; telephone (301) 504-7530; e-mail: mneily@cpsc.gov. For information about the schedule for submission of requests to make oral presentations and submission of texts of oral presentations, contact Rockelle Hammond, Office of the Secretary, Consumer Product Safety Commission, Washington, DC 20207; telephone (301) 504-6833; fax (301) 504-0127; e-mail rhammond@cpsc.gov.

SUPPLEMENTARY INFORMATION:

A. Background

On January 13, 2005, the Commission issued a notice of proposed rulemaking (“NPR”) proposing a flammability standard under the authority of the Flammable Fabrics Act that would address open flame ignition of mattresses and mattress and foundation sets (“mattresses/sets”). 70 FR 2470. The NPR and the staff's briefing package are available on the Commission's Web site at www.cpsc.gov. Mattresses/sets that comply with the proposed performance requirements will have a reduced heat release rate, generating a smaller size fire for a period of time than mattresses/sets made of traditional materials. This will reduce the likelihood that flashover will occur (the point at which the room's contents are simultaneously ignited by radiant heat), and allow more time for occupants to escape from the fire. Thus, the proposed standard should result in significant reductions in deaths and injuries associated with mattress fires.

The proposed standard sets forth performance requirements that each mattress/set must meet before being introduced into commerce. The test method is a full scale test based on research conducted by the National Institute of Standards and Technology (“NIST”). The mattress specimen (a mattress or mattress and foundation set, usually in a twin size) is exposed to a pair of T shaped propane burners and allowed to burn freely for a period of 30 minutes. The burners were designed to represent burning bedclothes. Measurements are taken of the heat release rate from the specimen and energy generated from the fire. The proposed standard establishes two test criteria, both of which the mattress/set must meet in order to comply with the standard: (1) The peak rate of heat release for the mattress/foundation set must not exceed 200 kW at any time during the 30 minute test; and (2) the total heat release must not exceed 15 MJ for the first 10 minutes of the test.

There are provisions in the proposed rule to minimize the testing burden. For example, manufacturers may sell a mattress/set based on a prototype (mattress design) that has not been tested if that prototype differs from a qualified prototype only with respect to (1) mattress/foundation size; (2) ticking, unless the ticking of the qualified prototype has characteristics designed to improve performance on the burn test; and/or (3) any component, material, or method of construction that the manufacturer can demonstrate, on an objectively reasonable basis, will not cause the prototype to exceed the test criteria specified above.

The proposed standard also minimizes the testing burden by allowing for “pooling.” Under this approach, one manufacturer would conduct the full prototype testing required (testing three prototype specimens), obtaining passing results, and the other manufacturer(s) may then produce mattresses/sets represented by that prototype so long as they conduct one confirming test on a specimen of the prototype that they produce.

The details of the proposed standard are discussed in the NPR published in the Federal Register on January 13, 2005. 70 FR 2470. As stated in the NPR, the Commission invites submission of written comments on the proposed standard by March 29, 2005.

B. The Public Meeting

The Flammable Fabrics Act requires that the Commission provide an opportunity for the oral presentation of “data, views, or arguments” in addition to written comments. 15 U.S.C. 1193(d). Thus, the Commission is providing this forum for oral presentations concerning the mattress proposed standard.

Participation in the meeting is open. See the DATES section of this notice for information on making requests to give oral presentations at the meeting.

The Commission requests comments on the following specific areas of interest that were noted in the mattress NPR:

1. Comments from small businesses concerning the anticipated economic impact of the requirements of the proposed mattress standard.

2. Comments, especially from small businesses, concerning the proposed one year effective date and the impact such date could have.

3. Comments concerning the Commission staff's assessment of the possible toxicity and environmental impact of the proposed standard.

Dated: January 31, 2005.
Todd A. Stevenson,
Secretary, Consumer Product Safety Commission.

[FR Doc. 05-2073 Filed 2-2-05; 8:45 am]

BILLING CODE 6355-01-P